DEPARTMENT OF HEALTH AND HUMAN SERVICES

Office of the Secretary

Findings of Research Misconduct

AGENCY: Office of the Secretary, HHS.

ACTION: Notice.

SUMMARY: Findings of research misconduct have been made against Dr. Rahul Agrawal (Respondent), former visiting fellow at the Center for Cancer Research, Laboratory of Pathology, Cancer Molecular Pathology Section, National Cancer Institute (NCI), National Institutes of Health (NIH). Dr. Agrawal engaged in research misconduct in research supported by the Intramural Research Program of NCI, NIH. The administrative actions, including supervision for a period of one (1) year, were implemented beginning on August 8, 2019, and are detailed below.

FOR FURTHER INFORMATION CONTACT: Wanda K. Jones, Dr.P.H., Acting Director, Deputy Director, Office of Research Integrity, 1101 Wootton Parkway, Suite 750, Rockville, MD 20852, (240) 453-8200.

SUPPLEMENTARY INFORMATION: Notice is hereby given that the Office of Research Integrity (ORI) has taken final action in the following case:

Dr. Rahul Agrawal, National Institutes of Health: Based on Respondent's admission, an assessment conducted by NIH, and additional analysis conducted by ORI in its oversight review, ORI found that Dr. Rahul Agrawal, former visiting fellow at the Center for Cancer Research, Laboratory of Pathology, Cancer Molecular Pathology Section, NCI, NIH, engaged in research misconduct in research supported by the Intramural Research Program of NCI, NIH.

ORI found that Respondent engaged in research misconduct by intentionally, knowingly, and/or recklessly falsifying and/or fabricating data in the unpublished research record by the alteration, reuse, and/or relabeling of quantitative real-time polymerase chain reaction (qRT-PCR) data and colony forming cell (CFC) and focus formation (FF) assay images to represent experiments that measured microRNA expression levels and the effect of long intergenic non-protein coding (LINC) RNAs in human cancer cell lines that were not conducted.

Specifically, ORI found that Respondent knowingly, intentionally, and/or recklessly falsified and/or fabricated:

• qRT-PCR data in fifty-nine (59) Excel files by:

—Conceiving Cycle Threshold (CT) values and PCR machine run identification numbers and run dates for fifty-nine (59) experiments that were not conducted

—inserting falsified and/or fabricated CT values in fifty-four (54) files that originated from one (1) Excel template with a single file creation date to represent distinct experimental runs with different experimental dates in exported Excel files from the PCR machine

—utilizing an earlier PCR machine calibration date in four (4) Excel files to represent experiments completed at a later date

• CFC and FF assay images in four (4) PowerPoint files by:

—Representing eight (8) images of CFC and FF assays in cell culture plates as the overexpression of LINC00379 or LINC00380 in human alveolar rhabdomyosarcoma RD and Rh41 cells when the cultured cells did not overexpress the specific LINC RNA

Dr. Agrawal entered into a Voluntary Settlement Agreement (Agreement) and voluntarily agreed:

(1) To have his research supervised for a period of one (1) year beginning on August 8, 2019; Respondent agreed that prior to the submission of an application for U.S. Public Health Service (PHS) support for a research project on which Respondent's participation is proposed and prior to Respondent's participation in any capacity on PHS-supported research, Respondent shall ensure that a plan for supervision of Respondent's duties is submitted to ORI for approval; the supervision plan must be designed to ensure the scientific integrity of Respondent's research contribution; Respondent agreed that he shall not participate in any PHS-supported research until such a supervision plan is submitted to and approved by ORI; Respondent agreed to maintain responsibility for compliance with the agreed upon supervision plan;

(2) that the requirements for Respondent's supervision plan are as follows:

i. A committee of 2-3 senior faculty members at the institution who are familiar with Respondent's field of research, but not including Respondent's supervisor or collaborators, will provide oversight and guidance for one (1) year beginning on August 8, 2019; the committee will review primary data from Respondent's laboratory on a quarterly basis and submit a report to ORI at six (6) month intervals setting forth the committee meeting dates, Respondent's compliance with appropriate research standards, and confirming the integrity of Respondent's research; and

ii. the committee will conduct an advance review of any PHS grant applications (including supplements, resubmissions, etc.), manuscripts reporting PHS-funded research submitted for publication, and abstracts; the review will include a discussion with Respondent of the primary data represented in those documents and will include a certification to ORI that the data presented in the proposed application/publication is supported by the research record;

(3) that for a period of one (1) year beginning on August 8, 2019, any institution employing him shall submit, in conjunction with each application for PHS funds, or report, manuscript, or abstract involving PHS-supported research in which Respondent is involved, a certification to ORI that the data provided by Respondent are based on actual experiments or are otherwise legitimately derived and that the data, procedures, and methodology are accurately reported in the application, report, manuscript, or abstract;

(4) that if no supervisory plan is provided to ORI, Respondent shall provide certification to ORI at the conclusion of the supervision period that he has not engaged in, applied for, or had his name included on any application, proposal, or other request for PHS funds without prior notification to ORI; and

(5) to exclude himself from serving in any advisory capacity to PHS including, but not limited to, service on any PHS advisory committee, board, and/or peer review committee, or as a consultant for a period of one (1) year beginning on August 8, 2019.

Wanda K. Jones,
Acting Director, Deputy Director, Office of Research Integrity.

[FR Doc. 2019-18305 Filed 8-23-19; 8:45 am]

BILLING CODE 4150-31-P